DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On April 18, 2002, a notice was published in the Federal Register (67 FR 19207), that an application had been filed with the Fish and Wildlife Service by Francis J. Kelsch for a permit (PRT-055028) to import one polar bear taken from the Northern Beaufort Sea population, Canada, for personal use.

Notice is hereby given that on June 18, 2002, as authorized by the provisions of the Marine Mammal Protection Act of 1972, as amended (16 U.S.C. 1361 et seq.) the Fish and Wildlife Service issued the requested permit subject to certain conditions set forth therein.

On April 25, 2002, a notice was published in the Federal Register (67 FR 20545), that an application had been filed with the Fish and Wildlife Service by Louis F. Spadaccino for a permit (PRT-055444) to import one polar bear taken from the Lancaster Sound population, Canada, for personal use.

Notice is hereby given that on June 18, 2002, as authorized by the provisions of the Marine Mammal Protection Act of 1972, as amended (16 U.S.C. 1361 et seq.) the Fish and Wildlife Service issued the requested permit subject to certain conditions set forth therein.

On May 7, 2002, a notice was published in the Federal Register (67 FR 30721), that an application had been filed with the Fish and Wildlife Service by Jeffry Stohr for a permit (PRT-055673) to import one polar bear taken from the Northern Beaufort Sea population, Canada, for personal use.

Notice is hereby given that on June 24, 2002, as authorized by the provisions of the Marine Mammal Protection Act of 1972, as amended (16 U.S.C. 1361 et seq.) the Fish and Wildlife Service issued the requested permit subject to certain conditions set forth therein.

On May 30, 2002, a notice was published in the Federal Register (67 FR 37852-37853), that an application had been filed with the Fish and Wildlife Service by Alaska Science Center, U.S. Geological Survey, Anchorage, AK, for a permit (PRT-740507) to renew and amend a permit authorizing the following annual activities with Northern sea otter (Enhydra lutris lutris): take up to 300 animals, including but not limited too, incidental take, capture/recapture, release, collect biological samples, tag, mark, implant, and import biological samples as part of a long term study on the species.

Notice is hereby given that on July 9, 2002, as authorized by the provisions of the Marine Mammal Protection Act of 1972, as amended (16 U.S.C. 1361 et seq.) the Fish and Wildlife Service issued the requested permit subject to certain conditions set forth therein.

Dated: July 19, 2002.
Charles S. Hamilton,
Senior Permit Biologist, Branch of Permits, Division of Management Authority.

[FR Doc. 02-19155 Filed 7-29-02; 8:45 am]

BILLING CODE 4310-55-P